DEPARTMENT OF HEALTH AND HUMAN SERVICES

Administration for Children and Families

Proposed Information Collection Activity; Comment Request

Proposed Projects

Title: Strengthening Communities Fund (SCF) Evaluation.

OMB No.: New Collection.

Description: This proposed information collection activity is to obtain information from participants in two Strengthening Communities Fund (SCF) programs: The Nonprofit Capacity Building Program and the State, Local, and Tribal Government Capacity Building Program. Both programs are designed to contribute to the economic recovery as authorized in the American Recovery and Reinvestment Act of 2009 (ARRA). The SCF evaluation is an important opportunity to examine outcomes achieved by the Strengthening Communities Fund and progress toward the objective of improving the capacity of organizations served by program grantees to address broad economic recovery issues in their communities.

The evaluation will be designed to assess progress and measure increased organizational capacity of each participating organization. The purpose of this request is to receive approval of the data collection instruments that will be used in this study.

A significant amount of information is already being collected through program-specific OMB-approved PPR forms or is available through secondary sources. Proposed surveys and phone interviews are very brief to reduce the burden on respondents.

Respondents: SCF grantees,and faith-based and Community Organizations (FBCOs).

Annual Burden Estimates
Instrument | Number of respondents | Number of responses per respondent | Average burden hours per response | Total burden hours
An on-line survey of SCF grantees | 84 | 1 | 0.25 | 21
Telephone interview of SCF grantees | 84 | 1 | 1.50 | 126
On-line survey of faith-based and community organizations (FBCOs) that received capacity building services from the SCF grantees | 1,000 | 1 | 0.50 | 500

Estimated Total Annual Burden Hours: 647

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 4, 2010.
Robert Sargis,
Reports Clearance Officer.

[FR Doc. 2010-28304 Filed 11-9-10; 8:45 am]

BILLING CODE 4184-01-P